DEPARTMENT OF TRANSPORTATION

Federal Aviation Administration

Agency Information Collection Activities: Requests for Comments; Clearance of Renewed Approval of Information Collection: Aviation Insurance

AGENCY: Federal Aviation Administration (FAA), DOT.

ACTION: Notice and request for comments.

SUMMARY: In accordance with the Paperwork Reduction Act of 1995, FAA invites public comments about our intention to request the Office of Management and Budget (OMB) approval to renew a previously approved information collection. The requested information is included in air carriers applications for insurance when insurance is not available from private sources.

DATES: Written comments should be submitted by January 3, 2017.

ADDRESSES: Send comments to the FAA at the following address: Ronda Thompson, Federal Aviation Administration, ASP-110, 800 Independence Ave. SW., Washington, DC 20591.

PUBLIC COMMENTS INVITED: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson by email at: Ronda.Thompson@faa.gov.

SUPPLEMENTARY INFORMATION: OMB Control Number: 2120-0514.

Title: Aviation Insurance.

Form Numbers: FAA Form 2120-0514.

Type of Review: Renewal of an information collection.

Background: The information submitted by applicants for insurance under Chapter 443 of Title 49 U.S.C. is used by the FAA to identify the eligibility of parties to be insured, the amount of coverage required, and insurance premiums. Without collection of this information, the FAA would not be able to issue required insurance.

Respondents: Approximately 61 applicants.

Frequency: On occasion.

Estimated Average Burden per Response: 4 hours.

Estimated Total Annual Burden: 616 hours.

Issued in Washington, DC on October 26, 2016.
Ronda Thompson,
FAA Information Collection Clearance Officer, Performance, Policy, and Records Management Branch, ASP-110.

[FR Doc. 2016-26357 Filed 10-31-16; 8:45 am]

BILLING CODE 4910-13-P